DEPARTMENT OF COMMERCE

Foreign-Trade Zones Board

[B-34-2014]

Foreign-Trade Zone 259—Koochiching County, Minnesota; Application for Reorganization Under Alternative Site Framework

An application has been submitted to the Foreign-Trade Zones (FTZ) Board by the Koochiching Economic Development Authority, Grantee of FTZ 259, requesting authority to reorganize the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on April 24, 2014.

FTZ 259 was approved by the FTZ Board on November 28, 2003 (Board Order 1306, 68 FR 68590, 12/9/2003). The current zone includes the following sites: Site 1 (1 acre)—International Falls Airport, located at the southwest corner of U.S. Highway 53 and Van Lynn Road, International Falls; Site 2 (707 acres)—KEDA Business Park, located at the intersection of the D.W. & P. rail line and Minnesota Highway 11, south of the City of Rainer; and, Site 3 (10 acres)—International Falls Business Park, located at the southeast corner of U.S. Highway 53 and 22nd Street, International Falls.

The grantee's proposed service area under the ASF would be Koochiching County, Minnesota, as described in the application. If approved, the grantee would be able to serve sites throughout the service area based on companies' needs for FTZ designation. The proposed service area is within and adjacent to the International Falls Customs and Border Protection port of entry.

The applicant is requesting authority to reorganize its existing zone to include all of the existing sites as “magnet” sites. The ASF allows for the possible exemption of one magnet site from the “sunset” time limits that generally apply to sites under the ASF, and the applicant proposes that Site 2 be so exempted. No new subzones/usage-driven sites are being requested at this time. The application would have no impact on FTZ 259's previously authorized subzone.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary at the address below. The closing period for their receipt is June 30, 2014. Rebuttal comments in response to material submitted during the foregoing period may be submitted during the subsequent 15-day period to July 15, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Camille Evans at Camille.Evans@trade.gov or (202) 482-2350.

Dated: April 24, 2014.
Andrew McGilvray,
Executive Secretary.

[FR Doc. 2014-10012 Filed 4-30-14; 8:45 am]

BILLING CODE 3510-DS-P